DEPARTMENT OF ENERGY

Federal Energy Regulatory Commission

Combined Notice of Filings #1

February 17, 2006.

Take notice that the Commission received the following electric rate filings.

Docket Number: ER00-2187-001.

Applicants: CMS Distributed Power, L.L.C.

Description: CMS Distributed Power LLC submits the Revised Triennial Generation Market Power Analysis filed in response to the Letter Order dated 1/12/05.

Filed Date: 2/10/2006.

Accession Number: 20060214-0235.

Comment Date: 5 p.m. Eastern Time on Friday, March 3, 2006.

Docket Number: ER02-2366-002.

Applicants: Louis Dreyfus Energy LLC.

Description: Louis Dreyfus Energy, LLC submits an amendment to its 9/9/05 updated market power analysis filing.

Filed Date: 2/10/2006.

Accession Number: 20060214-0229.

Comment Date: 5 p.m. eastern time on Friday, March 3, 2006.

Docket Number: ER03-534-001.

Applicants: Ingenco Wholesale Power, L.L.C.

Description: Ingenco Wholesale Power LLC submits amended, additional tariff sheets to the market-based rate tariff to comply with FERC's Market Behavior Rules.

Filed Date: 2/9/2006.

Accession Number: 20060213-0013.

Comment Date: 5 p.m. eastern time on Thursday, March 2, 2006.

Docket Number: ER05-111-003.

Applicants: TransCanada Hydro Northeast Inc.

Description: TransCanada Hydro Northeast, Inc submits an amendment to Original Sheet 1, FERC Electric Tariff 1, Original Volume No. 1.

Filed Date: 2/9/2006.

Accession Number: 20060213-0012.

Comment Date: 5 p.m. eastern time on Thursday, March 2, 2006.

Docket Numbers: ER05-652-005; RT04-1-019; ER05-109-004; ER04-48-019.

Applicants: Southwest Power Pool, Inc.

Description: Southwest Power Pool, Inc submits a compliance filing providing revisions its OATT pursuant to FERC's 1/11/06 Order.

Filed Date: 2/10/2006.

Accession Number: 20060216-0023.

Comment Date: 5 p.m. eastern time on Friday, March 3, 2006.

Docket Number: ER06-28-002.

Applicants: PJM Interconnection, L.L.C.

Description: PJM Interconnection, LLC submits revised tariff language in compliance with FERC's 1/26/06 letter order.

Filed Date: 2/10/2006.

Accession Number: 20060216-0022.

Comment Date: 5 p.m. eastern time on Friday, March 3, 2006.

Docket Number: ER06-268-002.

Applicants: Los Esteros Critical Energy Facility, LLC.

Description: Los Esteros Critical Energy Facility, LLC submits corrections to Rate Schedule No. 131 of its Reliability Must-Run Agreement with the California ISO.

Filed Date: 2/10/2006.

Accession Number: 20060216-0034.

Comment Date: 5 p.m. eastern time on Friday, March 3, 2006.

Docket Number: ER06-616-000.

Applicants: Duke Energy Corporation.

Description: Duke Energy Corp submits proposed changes to its interconnection agreement with North Carolina Electric Membership Corp.

Filed Date: 2/9/2006.

Accession Number: 20060213-0010.

Comment Date: 5 p.m. eastern time on Thursday, March 2, 2006.

Docket Number: ER06-618-000.

Applicants: Pacific Gas and Electric Company.

Description: Pacific Gas & Electric Co submits notices of termination for the Atlantic Substation Upgrade Special Facilities Agreement et al with Sierra Pacific Power Co.

Filed Date: 2/9/2006.

Accession Number: 20060214-0232.

Comment Date: 5 p.m. eastern time on Thursday, March 2, 2006.

Docket Number: ER06-620-000.

Applicants: ISO New England Inc.

Description: ISO New England Inc submits non-conforming market participant service agreements with EnergyConnect, Inc et al.

Filed Date: 2/10/2006.

Accession Number: 20060216-0016.

Comment Date: 5 p.m. eastern time on Friday, March 3, 2006.

Docket Number: ER06-621-000.

Applicants: Starlight Energy.

Description: Starlight Energy, LP submits a Notice of Cancellation of Rate Schedule No. 1, effective 3/30/06.

Filed Date: 2/9/2006.

Accession Number: 20060216-0017.

Comment Date: 5 p.m. eastern time on Thursday, March 2, 2006.

Docket Number: ER06-622-000.

Applicants: UGI Development Company.

Description: UGI Development Co submits a rate schedule specifying the revenue requirement for providing cost-based Reactive Support & Voltage Control from Generation Sources Service etc.

Filed Date: 2/10/2006.

Accession Number: 20060216-0018.

Comment Date: 5 p.m. eastern time on Friday, March 3, 2006.

Docket Number: ER06-623-000.

Applicants: New England Power Company.

Description: New England Power Co dba National Grid submits its Cost Allocation Agreement for Line 448-518 Upgrades with Boston Edison Co.

Filed Date: 2/10/2006.

Accession Number: 20060216-0019.

Comment Date: 5 p.m. eastern time on Friday, March 3, 2006.

Docket Number: ER06-624-000.

Applicants: Idaho Power Company.

Description: Idaho Power Co submits revised tariff sheets to its OATT, FERC Electric Tariff, First Revised Volume No. 5.

Filed Date: 2/10/2006.

Accession Number: 20060216-0020.

Comment Date: 5 p.m. eastern time on Friday, March 3, 2006.

Docket Number: ER06-625-000.

Applicants: American Electric Power Service Company.

Description: American Electric Power Service Corp, on behalf of the American Electric Power System, submits proposed amendments to two jurisdictional agreements etc with Central Power and Light Co.

Filed Date: 2/10/2006.

Accession Number: 20060216-0021.

Comment Date: 5 p.m. eastern time on Friday, March 3, 2006.

Docket Number: ER06-626-000.

Applicants: Allegheny Energy Service Corporation.

Description: Allegheny Energy Inc submits Revisions to the Reactive Power Rate Schedule of Hunlock Creek Energy Ventures.

Filed Date: 2/10/2006.

Accession Number: 20060216-0040.

Comment Date: 5 p.m. eastern time on Friday, March 3, 2006.

Docket Number: ER06-627-000.

Applicants: American Electric Power Service Corp.

Description: American Electric Power Service Corp submits the Station Agreement, dated 1/1/68 as amended among Ohio Power Co, Buckeye Power Inc et al.

Filed Date: 2/10/2006.

Accession Number: 20060216-0041.

Comment Date: 5 p.m. eastern time on Friday, March 3, 2006.

Docket Number: ER06-628-000.

Applicants: Tacoma Energy Recovery Company.

Description: Tacoma Energy Recovery Co's submits notice of cancellation of its FERC Electric Rate Schedule No. 1.

Filed Date: 2/10/2006.

Accession Number: 20060216-0039.

Comment Date: 5 p.m. eastern time on Friday, March 3, 2006.

Docket Number: ER06-629-000.

Applicants: California Independent System Operator Corporation

Description: California Independent System Operator submits its Standard Small Generator Interconnection Procedures for FERC's approval and inclusion in the ISO Tariff pursuant to Order 2006.

Filed Date: 2/10/2006.

Accession Number: 20060216-0037.

Comment Date: 5 p.m. eastern time on Friday, March 3, 2006.

Docket Number: ER06-630-000.

Applicants: Southern California Edison Company.

Description: Joint filing of a small generator interconnection agreement of the California Independent System Operator Corp pursuant to Order 2006.

Filed Date: 2/10/2006.

Accession Number: 20060216-0038.

Comment Date: 5 p.m. eastern time on Friday, March 3, 2006.

Docket Number: ER95-692-000.

Applicants: TransCanada Energy, Ltd.

Description: TransCanada Energy, Ltd submits an amendment to its FERC Electric Rate Schedule No.1 pursuant to Order 652.

Filed Date: 2/9/2006.

Accession Number: 20060213-0001.

Comment Date: 5 p.m. eastern time on Thursday, March 2, 2006.

Docket Number: ER98-564-009.

Applicants: TransCanada Power Marketing Ltd.

Description: TransCanada Power Marketing Ltd submits an amendment to its FERC Electric Rate Schedule No.1.

Filed Date: 2/9/2006.

Accession Number: 20060213-0014.

Comment Date: 5 p.m. eastern time on Thursday, March 2, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-2854 Filed 2-27-06; 8:45 am]

BILLING CODE 6717-01-P